DEPARTMENT OF ENERGY

Federal Energy Regulatory Commission

[Docket No. EG00-39-000, et al.]

PPL Brunner Island, LLC, et al.; Electric Rate and Corporate Regulation Filings

February 4, 2000.

Take notice that the following filings have been made with the Commission:

1. PPL Brunner Island, LLC

[Docket No. EG00-39-000]

Take notice that on February 1, 2000, PPL Brunner Island, LLC filed with the Federal Energy Regulatory Commission a Motion to Defer Consideration of Application for Determination of Status as an Exempt Wholesale Generator and Request for Waiver of Fifteen-Day Answer Period.

Comment date: February 25, 2000, in accordance with Standard Paragraph E at the end of this notice. The Commission will limit its consideration of comments to those that concern the adequacy or accuracy of the application.

2. PPL Holtwood, LLC

[Docket No. EG00-40-000]

Take notice that on February 1, 2000, PPL Holtwood, LLC filed with the Federal Energy Regulatory Commission a Motion to Defer Consideration of Application for Determination of Status as an Exempt Wholesale Generator and Request for Waiver of Fifteen-Day Answer Period.

Comment date: February 25, 2000, in accordance with Standard Paragraph E at the end of this notice. The Commission will limit its consideration of comments to those that concern the adequacy or accuracy of the application.

3. PPL Martins Creek, LLC

[Dcoket No. EG00-41-000]

Take notice that on February 1, 2000, PPL Martins Creek, LLC filed with the Federal Energy Regulatory Commission a Motion to Defer Consideration of Application for Determination of Status as an Exempt Wholesale Generator and Request for Waiver of Fifteen-Day Answer Period.

Comment date: February 25, 2000, in accordance with Standard Paragraph E at the end of this notice. The Commission will limit its consideration of comments to those that concern the adequacy or accuracy of the application.

4. PPL Susquehanna, LLC

[Docket No. EG00-43-000]

Take notice that on February 1, 2000, PPL Susquehanna, LLC filed with the Federal Energy Regulatory Commission a Motion to Defer Consideration of Application for Determination of Status as an Exempt Wholesale Generator and Request for Waiver of Fifteen-Day Answer Period.

Comment date: February 25, 2000, in accordance with Standard Paragraph E at the end of this notice. The Commission will limit its consideration of comments to those that concern the adequacy or accuracy of the application.

5. PPL Montour, LLC

[Docket No. EG00-44-000]

Take notice that on February 1, 2000, PPL Montour, LLC filed with the Federal Energy Regulatory Commission a Motion to Defer Consideration of Application for Determination of Status as an Exempt Wholesale Generator and Request for Waiver of Fifteen-Day Answer Period.

Comment date: February 25, 2000, in accordance with Standard Paragraph E at the end of this notice. The Commission will limit its consideration of comments to those that concern the adequacy or accuracy of the application.

6. Morgan Stanley Capital Group Inc., Competitive Utility Services Corp., Texaco Natural Gas Inc., ONEOK Power Marketing Company and Powertec International, LLC

[Docket Nos. ER94-1384-027, ER97-1932-012, ER95-1787-016, ER98-3897-006 and ER96-1-017]

Take notice that on January 27, 2000, the above-mentioned power marketers filed quarterly reports with the Commission in the above-mentioned proceedings for information only.

7. Enron Power Marketing, Inc., Portland General Electric Company, Cook Inlet Energy Supply Limited Partnership, Enron Energy Services, Inc., Clinton Energy Management Services, Inc., Lake Benton Power Partners LLC, Storm Lake Power Partners I LLC, Storm Lake Power Partners II LLC, SCC-L1, L.L.C., SCC-L2, L.L.C., SCC-L3, L.L.C. and Green Power Partners I LLC

[Docket Nos. ER94-24-033, ER99-1263-001, ER96-1410-018, ER98-13-013, ER98-3934-006, ER97-2904-003, ER98-4643-001, ER99-1228-001, ER99-1914-002, ER99-1915-002, ER99-1942-002, and ER99-2822-001]

Take notice that on January 14, 2000, Enron Power Marketing, Inc., on behalf of itself and Portland General Electric Company, Cook Inlet Energy Supply Limited Partnership, Enron Energy Services, Inc., Clinton Energy Management Services, Inc., Lake Benton Power Partners LLC, Storm Lake Power Partners I LLC, Storm Lake Power Partners II LLC, SCC-L1, L.L.C., SCC-L2, L.L.C., SCC-L3, L.L.C., and Green Power Partners I LLC (collectively, the Enron Companies), tendered for filing an updated market power study. Each of the Enron Companies is required to file a market power study every three years as a condition of its market-based rate authority. In order to avoid duplicative filings, the Enron Companies are submitting a single market-power study. The study finds that none of the Enron Companies possess market power in any generation market.

Comment date: February 22, 2000, in accordance with Standard Paragraph E at the end of this notice.

8. Thicksten Grimm Burgum, Incorporated, Monterey Consulting Associates Incorporated and Sparc, L.L.C.

[Docket Nos. ER96-2241-014, ER96-2143-013 and ER98-2671-004]

Take notice that on January 21, 2000, the above-mentioned power marketers filed quarterly reports with the Commission in the above-mentioned proceedings for information only.

9. New York Independent System Operator, Inc., Central Hudson Gas & Electric Corp., Consolidated Edison Company, of New York, Inc., New York State Electric & Gas Corporation, Niagara Mohawk Power Corporation Orange & Rockland Utilities, Inc. and Rochester Gas & Electric Corp.

[Docket Nos. ER97-1523-024, ER97-4234-020 and OA97-470-022 (Not consolidated)]

Take notice that on January 28, 2000 the New York Independent System Operator, Inc. (NYISO) submitted a compliance filing in the above-referenced proceeding consisting of a Revised Installed Capacity Auction Description.

The NYISO requests an effective date of March 15, 2000.

A copy of this filing was served upon all persons on the Commission's official service lists in Docket Nos. ER97-1523-000, OA97-470-000 and ER97-4234-000 (not consolidated), and the respective electric utility regulatory agencies in New York, New Jersey and Pennsylvania.

Comment date: February 18, 2000, in accordance with Standard Paragraph E at the end of this notice.

10. FPL Energy Power Marketing, Inc.

[Docket No. ER98-3566-005]

Take notice that on January 27, 2000, FPL Energy Power Marketing, Inc. filed their quarterly report for the quarter ending December 31, 1999, for information only.

11. New Energy Partners, L.L.C., NEV Midwest, L.L.C., NEV California, L.L.C., PP&L Energy Plus Co., LLC, Southern Energy Retail Trading and Marketing, Inc., CMS Marketing, Services and Trading Company, Southern Energy Trading and Marketing, Inc., NEV East, L.L.C., Southern Company Energy Marketing L.P., Merchant Energy Group of the Americas, Inc., Southern Energy California, L.L.C., New Energy Ventures, Inc., OST Energy Trading Inc., Tractebel Energy Marketing, Inc., Tenaska Power Services Co. and CMS Marketing, Services and Trading

Docket Nos. ER99-1812-005, ER97-4654-009, ER97-4653-009, ER99-3606-002, ER98-1149-006, ER96-2350-021, ER95-976-019, ER97-4652-009, ER97-4166-007, ER98-1055-009, ER99-1841-003, ER97-4636-009, ER96-553-017, ER94-142-025, ER94-389-022 and ER96-2350-022]

Take notice that on January 28, 2000, the above-mentioned power marketers filed quarterly reports with the Commission in the above-mentioned proceedings for information only.

12. New England Power Pool

[Docket No. ER99-4531-000]

Take notice that on February 1, 2000, New England Power Pool (NEPOOL) filed a final status report update to their September 27, 1999 Compliance Report in the above-captioned docket.

Comment date: February 22, 2000, in accordance with Standard Paragraph E at the end of this notice.

13. New England Power Pool

[Docket No. ER99-4536-002]

Take notice that on January 24, 2000, the New England Power Pool (NEPOOL) Participants Committee submitted three revised Market Rules and Procedures in compliance with the Commission's November 23, 1999 order in Docket Nos. ER99-4536-000 and ER99-4591-000 (89 FERC 61,209), to be effective for all NEPOOL market transactions occurring between September 28, 1999 and December 31, 1999.

The NEPOOL Participants Committee states that copies of these materials were sent to all entities on the service lists in Docket Nos. ER99-4536-000 and ER99-4591-000 and to all participants in the New England Power Pool, the New England state governors and regulatory commissions.

Comment date: February 14, 2000, in accordance with Standard Paragraph E at the end of this notice.

14. California Independent System Operator Corporation

[Docket No. ER99-4545-004]

Take notice that on January 27, 2000, the California Independent System Operator Corporation (ISO), tendered for filing a Market Notice which was sent to Market Participants on January 24, 2000 and posted on the ISO Home Page. The Market Notice specifies that portions of Amendment No. 22 to the ISO Tariff relating to revised Existing Transmission Contract and Firm Transmission Right scheduling templates, the creation of a new Congestion Management Zone (ZP26), and implementation of a new methodology for allocating Transmission Losses to Utility Distribution Companies will become effective on January 31, 2000 for Trading Day February 1, 2000.

The ISO states that this filing has been served on all parties listed on the official service list in the above-referenced docket.

Comment date: February 17, 2000, in accordance with Standard Paragraph E at the end of this notice.

15. ISO New England Inc.

[Docket No. ER00-395-002]

Take notice that on January 31, 2000, ISO New England Inc., tendered for filing revisions to its Tariff for Transmission Dispatch and Power Administration Services in compliance with Commission's December 30, 1999 Order in this Docket.

Copies of said filing have been served upon all parties to this proceeding, upon NEPOOL Participants and upon all non-Participant entities that are customers under the NEPOOL Open Access Transmission Tariff, as well as upon the utility regulatory agencies of the six New England States.

Comment date: February 22, 2000, in accordance with Standard Paragraph E at the end of this notice.

16. SmartEnergy.com, Inc.

[Docket No. ER00-140-001]

Take notice that on January 28, 2000, SmartEnergy.com, Inc. filed their quarterly report for the quarter ending December 31, 1999 for information only.

17. Central Maine Power Company

[Docket No. ER00-604-002]

Take notice that on January 27, 2000, in response to Central Maine Power Company, 90 FERC ¶ 61,014 (2000), and pursuant to Rule 35.13 of the Rules of Practice and Procedure, 18 CFR 35.13, of the Federal Energy Regulatory Commission (FERC or Commission), Central Maine Power Company (CMP) submitted a “Compliance Filing,” which revises CMP's Short-Term Interconnection Agreement with Gorbell/Thermo Electron Power Company.

CMP states that copies of the filing have been sent to persons identified on the official service list in this proceeding.

Comment date: February 17, 2000, in accordance with Standard Paragraph E at the end of this notice.

18. Constellation Power Source, Inc.

[Docket No. ER00-607-001]

Take notice that on January 28, 2000, Constellation Power Source, Inc. filed their quarterly report for the quarter ending December 31, 1999, for information only.

19. Northeast Utilities Service Company

[Docket No. ER00-794-000]

Take notice that on January 31, 2000, Northeast Utilities Service Company (NUSCO), tendered for filing a correction to the Service Agreement for Network Integration Transmission Service to The Connecticut Light and Power Company under the NU System Companies' Open Access Transmission Service Tariff No. 9.

Comment date: February 22, 2000, in accordance with Standard Paragraph E at the end of this notice.

20. Alrus Consulting, LLC

[Docket No. ER00-861-000]

Take notice that on February 1, 2000, Alrus Consulting, LLC (Alrus), tendered for filing, an Amended Petition with the Federal Energy Regulatory Commission (Commission) for acceptance of Alrus Rate Schedule FERC No. 1; the granting of certain blanket approvals, including the authority to sell electricity at market-based rates; and the waiver of certain Commission regulations. Alrus also requested waiver of the 60-day prior notice requirement to allow Alrus Rate Schedule FERC No. 1 to become effective January 15, 2000.

Alrus intends to engage in wholesale electric power and energy purchases and sales as a marketer. Alrus is not in the business of generating or transmitting electric power. Alrus is a Nevada limited liability corporation with its principal place of business in Reno, Nevada. Alrus is involved in a wide range of consulting services with a special emphasis on utility businesses and services.

Comment date: February 22, 2000, in accordance with Standard Paragraph E at the end of this notice.

21. FPL Energy Maine Hydro, Inc., FPL Energy Mason, LLC, FPL Energy Wyman, LLC, FPL Energy Wyman IV, LLC and FPL Energy AVEC, LLC

[Docket No. ER00-1297-000, ER00-1298-000, ER00-1299-000, ER00-1300-000 and ER00-1301-000]

Take notice that on January 27, 2000, the above-mentioned affiliated power producers and/or public utilities filed their quarterly reports for the quarter ending December 31, 1999.

Comment date: February 24, 2000, in accordance with Standard Paragraph E at the end of this notice.

22. Louisville Gas and Electric Company/Kentucky Utilities

[Docket No. ER00-1303-000]

Take notice that on January 27, 2000, Louisville Gas and Electric Company/ Kentucky Utilities filed their quarterly report for the quarter ending December 31, 1999.

Comment date: February 24, 2000, in accordance with Standard Paragraph E at the end of this notice.

23. Nevada Power Company

[Docket No. ER00-1325-000]

Take notice that on January 28, 2000, Nevada Power Company tendered for filing pursuant to 18 CFR Part 35 of the Commission's Rules and Regulations, a Notice of Cancellation of Agreement for Supplemental Power Service Between Nevada Power Company and Valley Electric Company.

This Notice of Cancellation is filed pursuant to the notice of termination of the Agreement for Supplemental Power Service given pursuant to the terms of the agreement to Nevada Power Company by Valley Electric Company.

Copies of the filing were served upon Valley Electric Company, the Public Utilities Commission of Nevada and the Nevada Attorney General's Bureau of Consumer Protection.

Comment date: February 18, 2000, in accordance with Standard Paragraph E at the end of this notice.

24. Southern California Edison Company

[Docket No. ER00-1326-000]

Take notice that on January 28, 2000, Southern California Edison Company (SCE), tendered for filing a new tariff, Resale of Firm Transmission Rights Tariff (FTRs Resale Tariff). Pursuant to the Commission's November 10, 1999 Order in Docket No. ER98-3594-000, the FTRs Resale Tariff provides for the resale of firm transmission rights (FTRs) procured by SCE.

SCE requests waiver of the prior notice requirement of Section 35.3 of the Commission's regulations to permit the FTRs Resale Tariff to be effective on the date the Commission accepts the new tariff for filing.

Comment date: May 5, 2000, in accordance with Standard Paragraph E at the end of this notice.

25. Ameren Services Company

[Docket No. ER00-1327-000]

Take notice that on January 28, 2000, Ameren Services Company (ASC) , tendered for filing a Service Agreement for Market Based Rate Power Sales between Ameren Energy, Inc. (AE) and Morgan Stanley Capital Group Inc. (MSCG). ASC asserts that the purpose of the Agreement is to permit AE to make sales of capacity and energy to MSCG pursuant to Ameren's Market Based Rate Power Sales Tariff filed in Docket No. ER98-3285-000.

Comment date: February 18, 2000, in accordance with Standard Paragraph E at the end of this notice.

26. Ameren Services Company

[Docket No. ER00-1328-000]

Take notice that on January 28, 2000, Ameren Services Company (ASC), tendered for filing a Service Agreement for Market Based Rate Power Sales between Ameren Energy, Inc. (AE) and Soyland Power Cooperative, Inc. (Soyland). ASC asserts that the purpose of the Agreement is to permit AE to make sales of capacity and energy to Soyland pursuant to Ameren's Market Based Rate Power Sales Tariff filed in Docket No. ER98-3285-000.

Comment date: February 18, 2000, in accordance with Standard Paragraph E at the end of this notice.

27. Ameren Services Company

[Docket No. ER00-1329-000]

Take notice that on January 28, 2000, Ameren Services Company (ASC), tendered for filing a Service Agreement for Market Based Rate Power Sales between Ameren Energy, Inc. (AE) and Clay Electric Co-operative, Inc. (Clay). ASC asserts that the purpose of the Agreement is to permit AE to make sales of capacity and energy to Clay pursuant to Ameren's Market Based Rate Power Sales Tariff filed in Docket No. ER98-3285-000.

Comment date: February 18, 2000, in accordance with Standard Paragraph E at the end of this notice.

28. Commonwealth Edison Company

[Docket No. ER00-1330-000]

Take notice that on January 28, 2000, Commonwealth Edison Company (ComEd), tendered for filing a Notice of Cancellation for the Service Agreement No. 362 between ComEd and Wisconsin Electric Power Company (WEPCO), specifically, Service Agreement No. 362 for Firm Point-to-Point Transmission Service under ComEd's Open Access Transmission Tariff (OATT).

ComEd requests an effective date of January 1, 2000, and accordingly, seeks waiver of the Commission's notice requirements.

Copies of this filing were served on WEPCO.

Comment date: February 18, 2000, in accordance with Standard Paragraph E at the end of this notice.

29. Rochester Gas and Electric Corporation, PacifiCorp, Florida Power Corporation, Sunlaw Energy Partners I, L.P., PP&L Montana, LLC, Southern Energy Kendall, L.L.C., Southern Energy Potrero, L.L.C., Southern Energy Delta, L.L.C., State Line Energy, L.L.C., Southern Energy New England, L.L.C., Southern Energy Canal, L.L.C., Duke Power, a division of Duke Energy Corporation, and Penobscot Hydro, LLC

[Docket Nos. ER00-1331-000, ER00-1332-000, ER00-1333-000, ER00-1334-000, ER00-1336-000, ER00-1337-000, ER00-1338-000, ER00-1339-000, ER00-1340-000, ER00-1341-000, ER00-1342-000, ER00-1343-000, and ER00-1344-000]

Take notice that on January 28, 2000, the above-mentioned affiliated power producers and/or public utilities filed their quarterly reports for the quarter ending December 31, 1999.

Comment date: February 24, 2000, in accordance with Standard Paragraph E at the end of this notice.

30. PG Power Sales Four, L.L.C.

[Docket No. ER00-1359-000]

Take notice that, on January 28, 2000, PG Power Sales Four, L.L.C. tendered for filing, initial FERC electric service tariff, Rate Schedule No. 1, and a petition for blanket approvals and waivers of various Commission regulations under the Federal Power Act.

Comment date: February 18, 2000, in accordance with Standard Paragraph E at the end of this notice.

31. PG Power Sales Five, L.L.C

[Docket No. ER00-1360-000]

Take notice that, on January 28, 2000, PG Power Sales Five, L.L.C. tendered for filing initial FERC electric service tariff, Rate Schedule No. 1, and a petition for blanket approvals and waivers of various Commission regulations under the Federal Power Act.

Comment date: February 18, 2000, in accordance with Standard Paragraph E at the end of this notice.

32. Phelps Dodge Energy Services, LLC, Consumers Energy Company, Niagara Mohawk Energy Marketing, Inc., Allegheny Energy Supply Company, LLC, Allegheny Energy Unit I and Unit 2, LLC, West Penn Power Company, d/b/a/ Allegheny Energy, Duke Energy Morro Bay, LLC, Duke Energy Morro Bay, LLC, Duke Energy Moss Landing, LLC, Duke Energy Moss Landing, LLC, Duke Energy Oakland, LLC, Duke Energy Oakland, LLC, Duke Energy South Bay, LLC, Duke Energy South Bay, LLC, SEI Wisconsin, L.L.C., Milford Power Limited Partnership, and Arizona Public Service Company

[Docket Nos. ER00-1345-000, ER00-1346-000, ER00-1347-000, ER00-1348-000, ER00-1349-000, ER00-1350-000, ER00-1351-000, ER00-1352-000, ER00-1353-000, ER00-1354-000, ER00-1355-000, ER00-1356-000, ER00-1357-000, ER00-1358-000, ER00-1367-000, ER00-1369-000, and ER00-1371-000]

Take notice that on January 28, 2000, the above-mentioned affiliated power producers and/or public utilities filed their quarterly reports for the quarter ending December 31, 1999.

Comment date: February 24, 2000, in accordance with Standard Paragraph E at the end of this notice.

33. PG Power Sales Six, L.L.C.

[Docket No. ER00-1361-000]

Take notice that, on January 28, 2000, PG Power Sales Six, L.L.C. tendered for filing initial FERC electric service tariff, Rate Schedule No. 1, and a petition for blanket approvals and waivers of various Commission regulations under the Federal Power Act.

Comment date: February 18, 2000, in accordance with Standard Paragraph E at the end of this notice.

34. PG Power Sales Seven, L.L.C

[Docket No. ER00-1362-000]

Take notice that, on January 28, 2000, PG Power Sales Seven, L.L.C. tendered for filing initial FERC electric service tariff, Rate Schedule No. 1, and a petition for blanket approvals and waivers of various Commission regulations under the Federal Power Act.

Comment date: February 18, 2000, in accordance with Standard Paragraph E at the end of this notice.

35. PG Power Sales Eight, L.L.C

[Docket No. ER00-1363-000]

Take notice that, on January 28, 2000, PG Power Sales Eight, L.L.C. tendered for filing initial FERC electric service tariff, Rate Schedule No. 1, and a petition for blanket approvals and waivers of various Commission regulations under the Federal Power Act.

Comment date: February 18, 2000, in accordance with Standard Paragraph E at the end of this notice.

36. PG Power Sales Nine, L.L.C.

[Docket No. ER00-1364-000]

Take notice that, on January 28, 2000, PG Power Sales Nine, L.L.C. , tendered for filing initial FERC electric service tariff, Rate Schedule No. 1, and a petition for blanket approvals and waivers of various Commission regulations under the Federal Power Act.

Comment date: February 18, 2000, in accordance with Standard Paragraph E at the end of this notice.

37. California Independent System Operator Corporation

[Docket No. ER00-1365-000]

Take notice that on January 28, 2000, the California Independent System Operator Corporation (ISO), tendered for filing a proposed amendment (Amendment No. 26) to the ISO Tariff. Amendment No. 26 modifies procedures governing the notice provided by the ISO to Scheduling Coordinators that a specific Reliability Must-Run (RMR) Unit will be required to provide Energy for reliability purposes during the next day. The ISO states that the amendment is intended to eliminate market distortions and operational problems that are caused by the current timing of notices. The amendment also includes modifications of the requirements for scheduling RMR units and of the procedures for the selection of payment options for the Energy provided that the ISO states are necessary to achieve the intended purpose of the modification in timing.

The ISO states that this filing has been served upon the Public Utilities Commission of California, the California Energy Commission, the California Electricity Oversight Board, the owners of RMR Units, and all parties with effective Scheduling Coordinator Service Agreements under the ISO Tariff. The ISO also states that the tariff amendments were presented to the owners of RMR Units more than 10 business days before the filing of Amendment No. 26.

Comment date: February 18, 2000, in accordance with Standard Paragraph E at the end of this notice.

38. Cinergy Services, Inc.

[Docket No. ER00-1366-000]

Take notice that on January 28, 2000, PSI Energy, Inc. (PSI), tendered for filing the Transmission and Local Facilities (T&LF) Agreement Calendar Year 1998 Reconciliation between PSI and Wabash Valley Power Association, Inc. (WVPA), and between PSI and Indiana Municipal Power Agency (IMPA). The T&LF Agreement has been designated as PSI's Rate Schedule FERC No. 253.

Copies of the filing were served on Wabash Valley Power Association, Inc., the Indiana Municipal Power Agency and the Indiana Utility Regulatory Commission.

Comment date: February 18, 2000, in accordance with Standard Paragraph E at the end of this notice.

39. Cinergy Services, Inc.

[Docket No. ER00-1368-000]

Take notice that on January 28, 2000, Cinergy Services, Inc. (Cinergy), on behalf of its affiliated Operating Companies, The Cincinnati Gas & Electric Company and PSI Energy, Inc. (Cinergy Operating Companies) submitted for approval a multi-year Confirmation Letter between Cinergy and TransAlta Energy Marketing (US) Inc. (TEMUS), under which the Cinergy Operating Companies intend to make four yearly sales of market-based power to TEMUS pursuant to Cinergy's long-term market-based power sales Service Agreement with TEMUS, which was previously accepted for filing in Docket No. ER99-3955-000.

Cinergy requests an effective date of January 1, 2000 for its Confirmation Letter.

Cinergy states that it has served a copy of its filing upon TEMUS.

Comment date: February 18, 2000, in accordance with Standard Paragraph E at the end of this notice.

40. Cinergy Services, Inc.

[Docket No. ER00-1370-000]

Take notice that on January 28, 2000, Cinergy Services, Inc. (Cinergy), on behalf of its affiliated Operating Companies, The Cincinnati Gas & Electric Company and PSI Energy, Inc. (Cinergy Operating Companies) tendered for approval certain sequential Confirmation Letters between Cinergy and CNG Energy Services Corporation (CNG), under which the Cinergy Operating Companies intend to make yearly sales of market-based power to CNG pursuant to Cinergy's long-term market-based power sales Service Agreement with CNG, dated December 12, 1997, and which was previously accepted for filing in Docket No. ER98-1716-000. Since Cinergy consented to the assignment by CNG of its liabilities and obligations in relation to the Service Agreement and the Confirmation Letters to Entergy Power Marketing Corp., Cinergy's power sales transactions referenced by the Confirmation Letters are to Entergy Power Marketing Corp.

Cinergy requests an effective date of January 1, 2000 for its Confirmation Letters.

Cinergy states that it has served a copy of its filing upon Entergy Power Marketing Corp. and Ormet Primary Aluminum Corporation.

Comment date: February 18, 2000, in accordance with Standard Paragraph E at the end of this notice.

41. Midwest Generation, LLC

[Docket No. ER00-1378-000]

Take notice that on January 31, 2000, Midwest Generation, LLC , tendered for filing under its market-based rate tariff three long-term service agreements with Commonwealth Edison Company.

Comment date: February 22, 2000, in accordance with Standard Paragraph E at the end of this notice.

42. Ameren Services Company

[Docket No. ER00-1379-000]

Take notice that on January 31, 2000, Ameren Services Company (ASC), tendered for filing an unexecuted Network Integration Transmission Service Agreement and associated Network Operating Agreement, between ASC and Clay Electric Cooperative, Inc. ASC asserts that the purpose of the agreements are to permit ASC to provide service over its transmission and distribution facilities to Clay Electric Cooperative, Inc. pursuant to the Ameren Open Access Tariff.

Comment date: February 22, 2000, in accordance with Standard Paragraph E at the end of this notice.

43. FirstEnergy System

[Docket No. ER00-1380-000]

Take notice that on January 31, 2000, FirstEnergy System tendered for filing Service Agreements to provide Firm Point-to-Point Transmission Service for American Municipal Power-Ohio, Inc., Cinergy Services, Inc., The Detroit Edison Company, Cargil—Alliant, LLC, and FirstEnergy Corporation, the Transmission Customers. Services are being provided under the FirstEnergy System Open Access Transmission Tariff submitted for filing by the Federal Energy Regulatory Commission in Docket No. ER97-412-000. The proposed effective dates under these Service Agreements are January 01, 2000 for the above mentioned Service Agreements in this filing.

Comment date: February 22, 2000, in accordance with Standard Paragraph E at the end of this notice.

44. New England Power Pool

[Docket No. ER00-1392-000]

Take notice that on January 31, 2000, the New England Power Pool (NEPOOL) Participants Committee, tendered for filing a signature page to the New England Power Pool Agreement dated September 1, 1971, as amended, signed by Champion International Corporation (Champion). The NEPOOL Agreement has been designated NEPOOL FPC No. 2.

The Participants Committee states that the Commission's acceptance of Champion's signature page would permit NEPOOL to expand its membership to include Champion. The Participants Committee further states that the filed signature page does not change the NEPOOL Agreement in any manner, other than to make Champion a member in NEPOOL.

The Participants Committee requests an effective date of February 1, 2000, for commencement of participation in NEPOOL by Champion.

Comment date: February 22, 2000, in accordance with Standard Paragraph E at the end of this notice.

45. New England Power Pool

[Docket No. ER00-1393-000]

Take notice that on January 31, 2000, the New England Power Pool (NEPOOL) Participants Committee , tendered for filing a signature page to the New England Power Pool Agreement dated September 1, 1971, as amended, signed by Tiverton Power Associates Limited Partnership (Tiverton). The NEPOOL Agreement has been designated NEPOOL FPC No. 2.

The Participants Committee states that the Commission's acceptance of Tiverton's signature page would permit NEPOOL to expand its membership to include Tiverton. The Participants Committee further states that the filed signature page does not change the NEPOOL Agreement in any manner, other than to make Tiverton a member in NEPOOL.

The Participants Committee requests an effective date of February 1, 2000, for commencement of participation in NEPOOL by Tiverton.

Comment date: February 22, 2000, in accordance with Standard Paragraph E at the end of this notice.

46. Central and South West Services

[Docket No. ER00-1414-000]

Take notice that on January 31, 2000, Central and South West Services, Inc. (CSWS), as designated agent for Central Power and Light Company, Public Service Company of Oklahoma, Southwestern Electric Power Company and West Texas Utilities Company, tendered for filing a Service Agreement for ERCOT Ancillary Services under the Open Access Transmission Service Tariff of the CSW Operating Companies (the CSW OATT) with Tex-La Electric Power Cooperative of Texas, Inc. (Tex-La) and a Service Agreement for ERCOT Regional Transmission Service under the CSW OATT with Tex-La.

CSWS seeks an effective date of January 1, 2000 and, accordingly, seeks waiver of the Commission's notice requirements.

Copies of the filing have been served on Tex-La and on the Public Utility Commission of Texas.

Comment date: February 22, 2000, in accordance with Standard Paragraph E at the end of this notice.

47. Central Power and Light Company, West Texas Utilities Company, Public Service Company of Oklahoma and Southwestern Electric Power Company

[Docket No. ER00-1415-000]

Take notice that on January 31, 2000, Central Power and Light Company, West Texas Utilities Company, Public Service Company of Oklahoma, and Southwestern Electric Power Company (collectively, the CSW Operating Companies) tendered for filing: (i) an executed Network Service Agreement (NSA) between the CSW Operating Companies and Public Service Company of Oklahoma and Southwestern Electric Power Company (PSO/SWEPCO); (ii) an executed Network Operating Agreement (NOA) between the CSW Operating Companies and PSO/SWEPCO; (iii) an executed NSA between the CSW Operating Companies and Central Power and Light Company and West Texas Utilities Company (CPL/WTU); (iv) an executed NOA between the CSW Operating Companies and CPL/WTU; and (v) an unexecuted service agreement under which the CSW Operating Companies will provide transmission service to CPL/WTU.

The CSW Operating Companies request a January 1, 2000 effective date for the agreements.

The CSW Operating Companies state that a copy of this filing has been served on PSO/SWEPCO, CPL/WTU, the Public Utility Commission of Texas, the Oklahoma Corporation Commission, the Louisiana Public Service Commission and the Arkansas Public Service Commission.

Comment date: February 22, 2000, in accordance with Standard Paragraph E at the end of this notice.

48. Consumers Energy Company

[Docket No. ES98-31-000]

Take notice that on January 31, 2000 Consumers Energy Company filed a request for waiver of the Commission's competitive bid or negotiated placement requirements of 18 CFR 34.2 with regard to guarantees for loans for purchase and/or installation of equipment related to the provision of energy, which guarantees would be made pursuant to authorization already granted in this docket.

Comment date: February 25, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-3307 Filed 2-11-00; 8:45 am]

BILLING CODE 6717-01-P